DEPARTMENT OF DEFENSE

Department of the Army

Availability for Non-Exclusive, Exclusive, or Partially Exclusive Licensing of U.S. Patent Application Concerning Method and Apparatus for Educating Asthma Sufferers and Caregivers

AGENCY: Department of the Army, DoD.

ACTION: Notice.

SUMMARY: In accordance with 37 CFR 404.6 and 404.7, announcement is made of the availability for licensing of U.S. Patent Application No. 09/829,007 entitled “Method and Apparatus for Educating Asthma Sufferers and Caregivers,” filed April 10, 2001. Foreign rights are also available (PCT/US01/11591). The United States Government, as represented by the Secretary of the Army, has rights in this invention.

ADDRESSES: Commander, U.S. Army Medical Research and Material Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: The invention is directed at an assessment method and apparatus for asthma patients and healthcare providers to use in assessing a particular case of asthma and/or learning about different aspects of asthma. More particularly, the invention relates to a scoring system for determining the severity of asthma and the current situation of an asthma patient.

Luz D. Ortiz,
Army Federal Register Liaison Officer.

[FR Doc. 03-23734 Filed 9-16-03; 8:45 am]

BILLING CODE 3710-08-M